POSTAL SERVICE

39 CFR Part 20

International Competitive Services Product and Price Changes

AGENCY: Postal Service.

ACTION: Final rule.

SUMMARY: The Postal Service is revising Mailing Standards of the United States Postal Service, International Mail Manual (IMM®), and Notice 123, Price List, to reflect prices, product features, and classification changes to Competitive Services and other changes, as established by the Governors of the Postal Service.

DATES: Effective: January 18, 2026.

FOR FURTHER INFORMATION CONTACT: Michelle Lassiter at 202-268-2914.

SUPPLEMENTARY INFORMATION: This final action describes new prices and classification changes established by the Governors of the United States Postal Service and submitted for review by the Postal Regulatory Commission (PRC) in Docket Number CP2026-2. On December 19, 2025, in Order No. 9405, the PRC found that the price adjustments and classification changes and may go into effect on January 18, 2026. The order can be viewed on the Postal Regulatory Commission's website at https://prc.gov.

Also, by notice filed on November 14, 2025, in PRC Docket No. MC2026-99, and approved on December 12, 2025, by the PRC in Order No. 9395, the Postal Service is changing the country group assignments for certain French overseas regions and departments, French Guiana, Guadeloupe, Martinique, and Reunion. In addition, the Postal Service is changing the Foreign Office of Exchange Code for International Priority Airmail for items destined to these locations.

This final rule describes the international price changes and minor classification changes for the following International Competitive Services:

• Priority Mail Express International® (PMEI).

• Priority Mail International® (PMI).

• First-Class Package International Service® (FCPIS®)

• International Priority Airmail® (IPA®)

• Direct Sacks of Printed Matter to One Addressee (Airmail M-bag®)

• The following competitive international extra services and fees:

• International Insurance.

• Certificate of Mailing.

• Customs Clearance and Delivery Fee.

• USPS Delivered Duty Paid (DDP).

For pricing, see the Postal Explorer® website at https://pe.usps.com.

Priority Mail Express International ¹

¹ Global Express Guaranteed (GXG) service was suspended as of September 29, 2024, and thus specific information concerning GXG pricing is not included with this Notice.

Priority Mail Express International (PMEI) service provides fast service to approximately 180 countries in 3-5 business days for many major markets, although the actual number of days may vary based upon origin, destination, and customs delays. PMEI with Money-Back Guarantee service is available for certain destinations. Due to airline travel restrictions and cancellations, PMEI with Money-Back Guarantee service has been suspended for several destinations until further notice. For more information, see the USPS® Service Alerts page on https://about.usps.com/newsroom/service-alerts/international/welcome.htm. The price increase for PMEI service averages 5.9 percent. The Commercial Base price provides a discount below the published retail prices for customers who prepare and pay for PMEI shipments via permit imprint, online at USPS.com®, or as registered end-users using an authorized PC Postage® vendor (except for Click-N-Ship® service). Customers who prepare PMEI shipments via Click-N-Ship service pay retail prices. Commercial Plus will be equivalent to Commercial Base; however, deeper discounting may still be available to customers through negotiated service agreements.

The Postal Service will continue to include PMEI service in customized contracts.

PMEI flat rate pricing continues to be available for Flat Rate Envelopes.

Priority Mail International

Priority Mail International (PMI) is an economical way to send merchandise and documents to approximately 180 countries in 6-10 business days for many major markets, although the actual number of days may vary based upon origin, destination, and customs delays. The price increase for PMI service averages 5.9 percent. The Commercial Base price provides a discount below the published retail prices for customers who prepare and pay for PMI items via permit imprint, online at USPS.com, or as registered end-users using an authorized PC Postage vendor (except for Click-N-Ship). Customers who prepare PMI shipments via Click-N-Ship pay retail prices. Commercial Plus prices will be equivalent to Commercial Base; however, deeper discounting may still be available to customers through negotiated service agreements.

The Postal Service will continue to include PMI service in customized contracts.

PMI flat rate pricing continues to be available for Flat Rate Envelopes, Small Flat Rate Boxes, and Medium and Large Flat Rate Boxes.

First-Class Package International Service

First-Class Package International Service (FCPIS) is an economical international service for small packages not exceeding 4 pounds in weight and $400 in value. The price increase for FCPIS averages 5.9 percent. The Commercial Base price provides a discount below the published retail prices for customers who prepare and pay for FCPIS items via permit imprint or by USPS-approved online payment methods. Customers who prepare FCPIS shipments via Click-N-Ship service pay retail prices. Commercial Plus prices will be equivalent to Commercial Base; however, deeper discounting may be made available to customers through negotiated service agreements.

The Postal Service will continue to include FCPIS in customized contracts.

Electronic USPS Delivery Confirmation International service (E-USPS DELCON INTL®) is a tracking service available at no charge for FCPIS items to select destination countries.

International Priority Airmail

International Priority Airmail (IPA) service, including IPA M-bags, is a commercial service designed for volume mailings of all First-Class Mail International postcards, letters, and large envelopes (flats), and for volume mailings of FCPIS packages (small packets) weighing up to a maximum of 4.4 pounds. IPA shipments are typically flown to foreign destinations (exceptions apply to Canada) and are then entered into that country's air or surface priority mail system for delivery. The price increase for IPA is 5.9 percent.

Direct Sacks of Printed Matter to One Addressee (Airmail M-bags)

An Airmail M-bag is a direct sack of printed matter sent to a single foreign addressee at a single address. As described in the article titled “IMM Revision: Direct Sacks of Printed Matter to One Addressee (M-bags)” in Postal Bulletin 22669 (2-6-2025), effective January 1, 2025, the Universal Postal Union (UPU) modified the definition of M-bags to make it a supplemental (optional) service; postal operators may further restrict the content. The Postal Service has provided the UPU with written notification that it will continue to offer M-bag service and opted to restrict the service solely to printed matter. The price increase for M-bags is 44.0 percent.

International Extra Services and Fees

Depending on country destination and mail type, customers may add a variety of extra services to their outbound shipments and pay a variety of fees. The Postal Service proposes to increase fees for certain international competitive extra services as follows:

• PMEI and PMI merchandise insurance: There is no charge for PMEI and PMI merchandise insurance coverage up to $200. The starting fee for additional insurance over $200 will be increased to $13.85. For each additional $100 or fraction over $300 up to a maximum indemnity limit of $5000 (the maximum indemnity varies by country), the incremental fee will be as set forth in the table below:

Indemnity limit not over | Fee
Up to $200 | $0.00
$200.01-$300.00 | 13.85
$300.01-$400.00 | 17.55
$400.01-$500.00 | 21.25
$500.01-$600.00 | 24.90
$600.01-$700.00 | 28.55
$700.01-$800.00 | 32.30
$800.01-$900.00 | 35.95
$35.95 plus $3.70 per $100 or fraction thereof over $900 in declared value. Maximum insurance $5,000 (varies by country).

• Certificate of Mailing service: Prices for international competitive Certificate of Mailing service will be as follows:

Individual pieces | Fee
Certificate of Mailing
Individual article (PS Form 3817) | $2.40
Duplicate copy of PS Form 3817 or PS Form 3665 (per page) | 2.40
Firm mailing sheet (PS Form 3665), per piece (minimum 3); All other qualifying classes of mail | 0.70
Bulk quantities
For first 1,000 pieces (or fraction thereof) | 13.50
Each additional 1,000 pieces (or fraction thereof) | 1.70
Duplicate copy of PS Form 3606 | 2.40

• Customs clearance and delivery fee: The competitive customs clearance and delivery fee per dutiable item will increase to $9.35.

• USPS Delivered Duty Paid (DDP): The USPS is introducing USPS Delivered Duty Paid (DDP), which provides the mailer with the option to prepay any applicable import duties, taxes, and fees on certain items mailed to select international destinations. The fee that the USPS will establish for facilitating payment does not include any applicable taxes, duties, and non-USPS fees, which are collected separately and passed through to a third party. The competitive USPS DDP fee will initially be set to $0.00. However, as customs requirements are likely to evolve, the Postal Service requires flexibility and may increase the fee, for a number of reasons, including to cover any costs that are required to implement new payment solutions.

The Postal Service hereby adopts the following changes to Mailing Standards of the United States Postal Service, International Mail Manual (IMM), which is incorporated by reference into the Code of Federal Regulations. We will publish an appropriate amendment to 39 CFR part 20 to reflect these changes.

List of Subjects in 39 CFR Part 20

Foreign relations, International postal services.

Accordingly, the Postal Service amends Mailing Standards of the United States Postal Service, International Mail Manual (IMM), incorporated by reference in the Code of Federal Regulations, as follows (see 39 CFR 20.1)

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of the IMM as follows:

* * * * *

Mailing Standards of the United States Postal Service, International Mail Manual (IMM)

* * * * *

2 Conditions for Mailing

* * * * *

220 Priority Mail Express International

* * * * *

222 Eligibility

* * * * *

222.7 Extra Services

* * * * *

[Add a new entry after 222.72, to read as follows:]

222.73 USPS Delivered Duty Paid (DDP)

Customers who want to prepay any applicable import duties, taxes and fees may purchase USPS Delivered Duty Paid (DDP) for certain pieces, when available, at a retail service counter, online using Click-N-Ship, through USPS APIs or using USPS-produced Global Shipping Software (GSS). See Exhibit 362 and Individual Country Listings for availability.

* * * * *

230 Priority Mail International

* * * * *

232 Eligibility

* * * * *

232.9 Extra Services

* * * * *

[Add a new entry after 232.92, to read as follows:]

232.93 USPS Delivered Duty Paid (DDP)

Customers who want to prepay any applicable import duties, taxes and fees may purchase USPS Delivered Duty Paid (DDP) for certain pieces, when available, at a retail service counter, online using Click-N-Ship, through USPS APIs or using USPS-produced Global Shipping Software (GSS). See Exhibit 362 and Individual Country Listings for availability.

* * * * *

250 First-Class Package International Service

* * * * *

252 Eligibility

* * * * *

252.5 Extra Services

* * * * *

[Add a new entry after 252.53, to read as follows:]

252.54 USPS Delivered Duty Paid (DDP)

Customers who want to prepay any applicable import duties, taxes and fees may purchase USPS Delivered Duty Paid (DDP) for certain pieces, when available, at a retail service counter, online using Click-N-Ship, through USPS APIs or using USPS-produced Global Shipping Software (GSS). See Exhibit 362 and Individual Country Listings for availability.

* * * * *

290 Commercial Services

* * * * *

292 International Priority Airmail (IPA) Service

* * * * *

292.4 Mail Preparation

* * * * *

292.45 IPA Foreign Office of Exchange Codes and Price Groups

* * * * *

Exhibit 292.45a

IPA Foreign Office of Exchange Codes and Price Groups

[Revise the entries for French Guiana, Guadeloupe, Martinique, and Reunion to read as follows:]

Country labeling name | Foreign office of exchange code | Price group
* * * * *
French Guiana | ROI | 15
* * * * *
Guadeloupe | ROI | 15
* * * * *
Martinique | ROI | 15
* * * * *
Reunion | ROI | 15
* * * * *

* * * * *

3 Extra Services

* * * * *

[Revise the title and text of 360 to read as follows:]

360 USPS Delivered Duty Paid (DDP)

361 Description

USPS Delivered Duty Paid (DDP) allows the sender to prepay applicable import duties, taxes, and fees at the time of mailing. USPS DDP is intended to ensure delivery of merchandise to the recipient without any additional charges related to import duties, taxes, and fees due upon delivery under normal circumstances.

361.1 Definitions

361.11 De Minimis

The term “de minimis” refers to a value threshold below which imported goods are exempt from import duties or taxes. This threshold varies significantly across countries.

361.12 Import Duties

Import duties are charges collected by the destination country on imported goods. The duty amount is calculated based on the value, country of origin, and classification of the goods. Import duties can also vary depending on free trade agreements, and the de minimis value set by the importing country.

361.13 Import Fees

Import fees may be applied by brokers, government agencies, customs, and other service providers. These fees can change based on many different factors and may apply even when duties and taxes are not applicable.

361.14 Import Taxes

Import taxes are taxes placed on international purchases and can vary by country, region, HS code, and de minimis value. Some countries apply a general consumption tax referred to as a value-added tax (VAT) or a goods and services tax (GST). The way these taxes are calculated varies by country.

361.15 Low-Value Goods

Low-value goods are imported goods for which the seller is required by the destination country to register for VAT/GST and collect and remit taxes. Only certain countries impose this requirement and the value threshold required to qualify as “low-value” varies across countries.

361.16 Service Provider

A third-party service provider used by USPS to facilitate payment of any applicable import duties, import taxes, and import fees in accordance with the Service Provider Terms of Service.

361.17 Service Provider Terms of Service

An agreement between the sender and the Service Provider that the sender must agree to during the USPS postage payment process when opting to use USPS Delivered Duty Paid (DDP). The Service Provider Terms of Service establish the sender's rights and responsibilities vis-à-vis the Service Provider with respect to the sender's use of USPS DDP. The current version of the Service Provider Terms of Service is available at https://zonos.com/docs/legal/usps-terms-of-service.

361.18 Total Import Amount Quote

The estimated amount of all import duties, import taxes, and import fees, as applicable, for a mailpiece being shipped through the USPS to an international destination that is quoted to the sender at the time of mailing.

362 Availability

USPS Delivered Duty Paid (DDP) can be obtained only at the time of mailing at a Post Office retail service counter, online using Click-N-Ship, through USPS APIs or using USPS-produced Global Shipping Software (GSS). USPS DDP is not available with First-Class Mail International, International Priority Airmail, or any type of M-bag service. USPS DDP is available for the following types of mail:

a. Priority Mail Express International.

b. Priority Mail International.

c. First-Class Package International Service.

USPS DDP is available only to select foreign countries. See Individual Country Listings for additional country-specific prohibitions and restrictions.

Exhibit 362 USPS Delivered Duty Paid Availability

Canada

Germany

United Kingdom

363 Fees

See Notice 123, Price List, for the applicable fee for USPS Delivered Duty Paid (DDP). The fee that the Postal Service will charge for facilitating payment does not include any applicable duties, taxes, and non-USPS fees, which are calculated and collected separately and passed through to the Service Provider. This fee must be paid in addition to postage and other applicable charges (e.g., charges for additional extra services).

364 Processing Requests

364.1 General Use

USPS has integrated the USPS DDP into the international transaction when the mailer uses Click-N-Ship, Global Shipping Software (GSS), USPS International APIs or when the mailer takes their package to a Post Office retail service counter. The Service Provider will use customs form information provided by the mailer to calculate the Total Import Amount Quote.

364.2 Sender's Responsibilities

364.21 Sender's Agreement With Service Provider Terms of Service

For each USPS Delivered Duty Paid (DDP) transaction, the sender must consent to and comply with the Service Provider Terms of Service, as it may be updated by the Service Provider from time to time. Any USPS customer who offers USPS DDP to third-party senders, such as through a marketplace or shipping platform, consents to and must comply with the Service Provider Terms of Service, and must require each third-party sender who opts to use USPS DDP to review and consent to be bound by the Service Provider Terms of Service in advance of using USPS DDP.

364.22 Use of Customs Declaration Information

The mailer must provide all mandatory and, where appropriate, any conditional customs form data as described in 123.711 a. and b. The accuracy of the Total Import Amount Quote is dependent upon the destination country-specific harmonized code, country of origin, and value of goods. Various tools are available, including but not limited to:

a. Harmonized Code: USPS requires the mailer to provide an HS code with a minimum of 6-digits. However, this is typically not enough information to determine the applicable duty rate. Mailers may use the Harmonized System (HS) Code Lookup tool to determine the destination country-specific HS code. For more information, see https://tools.usps.com/hscode/?msockid=0d2d26cad1ee6ef70f723046d0786f1e.

b. Country of origin. The country of origin is generally determined based on where the goods are wholly grown, produced, or manufactured in a particular country, or the last country in which the item has been substantially transformed into a new and different article. More information about customs rules of origin can be found at https://www.cbp.gov/document/publications/rules-origin.

c. Value. The primary basis for customs value is the transaction value, which is the price actually paid or payable for the goods when sold for export. More information about customs valuation can be found at https://www.trade.gov/trade-guide-customs-valuation.

364.23 Mailer Certification for VAT/GST Remittance on Low-Value Goods

Some countries require remote sellers of low-value goods to register, collect and remit Value Added Tax (VAT) or Goods and Services Tax (GST) on sales to consumers within their customs territory. When USPS Delivered Duty Paid (DDP) is used to ship low-value goods to such countries, as determined by the Service Provider, the sender must certify that the mailpiece is being sent pursuant to a Business-to-Consumer (B2C) transaction. Any USPS customer who offers USPS DDP to third-party senders, such as through a marketplace or shipping platform, must inform each third-party who opts to use USPS DDP to ship a low-value good, as determined by the Service Provider, that the sender must certify that the mailpiece is being sent pursuant to a B2C transaction.

364.24 Sender's Responsibility To Pay Balance Due

In the event the actual import duties, import taxes, and import fees charged during customs clearance are more than the Total Import Amount Quote, and the amount owed is not covered by the Landed Cost Guarantee, as described in 364.32, the mailer agrees to pay the Service Provider any balance owed in accordance with the Service Provider Terms of Service.

364.3 Service Provider Actions

364.31 Modifications to Customs Declaration Information

The Service Provider may make changes, as necessary, to the shipping and customs information the mailer supplies to USPS (e.g., replacement of the U.S. Harmonized Tariff Schedule code with the destination country-specific Harmonized System (HS) code), for purposes of accuracy and/or compliance with applicable laws and regulations. This authorization does not release the mailer from their responsibility to provide complete and accurate information.

364.32 Landed Cost Guarantee

When a mailer opts to use USPS Delivered Duty Paid (DDP), the Service Provider guarantees the accuracy of the Total Import Amount Quote subject to the terms and limitations set forth in the Service Provider Terms of Service (Landed Cost Guarantee). Limitations may include, but may not be limited to, additional amounts charged by customs due to the mailer's failure to provide complete and accurate customs information (e.g., product description, accurate HS codes, accurate country of origin, etc.). See Service Provider Terms of Service for more information.

364.33 Differences in Monies Paid and Monies Owed for Import Duties, Taxes, and Fees

The actual import duties, import taxes, and import fees charged during customs clearance for an order which is covered by the Landed Cost Guarantee may be more or less than the Total Import Amount Quote. Except as provided in 364.24, in the event of a difference between the actual import duties, import taxes, and import fees, and the Total Import Amount Quote, the mailer will not be asked to pay more money, nor will the mailer receive a refund. Any excess shall be deemed fully earned and payable to the Service Provider. However, in the event additional amounts are owed and not covered by the Landed Cost Guarantee, the mailer agrees to pay the Service Provider any balance owed in accordance with the Service Provider Terms of Service, as provided in 364.32.

365 Inquiries and Refunds

365.1 Inquiries

Mailers may make inquiries directly through the Service Provider at https://zonos.com/contact-support or by email at support@zonos.com.

365.2 Refunds

a. USPS DDP Fee: Prior to acceptance, USPS DDP shipping labels can be cancelled with a full refund of postage and the USPS DDP fee, if applicable. The USPS DDP fee is non-refundable after the package has been accepted by USPS.

b. Service Provider Charges: Import duties, taxes, and fees are ineligible for refund unless otherwise specified in the Service Provider's Terms of Service.

* * * * *

Country Price Groups and Weight Limits

* * * * *

[Add “(Suspended)” to the title of the Global Express Guaranteed column and remove the information within the GXG Price Group and Max Weight columns for all the entries. Also, revise the entries for French Guiana, Guadeloupe, Martinique, and Reunion to read as follows:]

BILLING CODE P

BILLING CODE C

Individual Country Listings

* * * * *

[For every country, except Canada, Germany, and United Kingdom of Great Britain and Northern Ireland, add a new entry for USPS Delivered Duty Paid (DDP) within the Extra Services section between Restricted Delivery (350) and International Postal Money Order (371), to read as follows:]

Extra Services

* * * * *

USPS Delivered Duty Paid (DDP) (360)

NOT Available

* * * * *

Canada

* * * * *

Extra Services

* * * * *

[Add a new entry for USPS Delivered Duty Paid (DDP) within the Extra Services section between Restricted Delivery (350) and International Postal Money Order (371), to read as follows:]

USPS Delivered Duty Paid (360)

Available only for dutiable items sent as Priority Mail Express International, Priority Mail International, or First-Class Package International Service.

* * * * *

French Guiana

* * * * *

[Revise the heading for the Priority Mail Express International section to read as follows (changing the price group to 15):]

Priority Mail Express International (220) Price Group 15

* * * * *

[Revise the heading for the Priority Mail International section to read as follows (changing the price group to 15):]

Priority Mail International (230) Price Group 15

* * * * *

[Revise the heading for the First-Class Mail International section to read as follows (changing the price group to 5):]

First-Class Mail International (240) Price Group 5

* * * * *

Germany

* * * * *

Extra Services

* * * * *

[Add a new entry for USPS Delivered Duty Paid (DDP) within the Extra Services section between Restricted Delivery (350) and International Postal Money Order (371), to read as follows:]

USPS Delivered Duty Paid (DDP) (360)

Available only for dutiable items sent as Priority Mail Express International, Priority Mail International, or First-Class Package International Service.

Service is NOT available for items:

• Destined to Helgoland and Büsingen (customs enclaves).

• Declared as gifts.

* * * * *

Guadeloupe

* * * * *

[Revise the heading for the Priority Mail Express International section to read as follows (changing the price group to 15):]

Priority Mail Express International (220) Price Group 15

* * * * *

[Revise the heading for the Priority Mail International section to read as follows (changing the price group to 15):]

Priority Mail International (230) Price Group 15

* * * * *

[Revise the heading for the First-Class Mail International section to read as follows (changing the price group to 5):]

First-Class Mail International (240) Price Group 5

* * * * *

Martinique

* * * * *

[Revise the heading for the Priority Mail Express International section to read as follows (changing the price group to 15):]

Priority Mail Express International (220) Price Group 15

* * * * *

[Revise the heading for the Priority Mail International section to read as follows (changing the price group to 15):]

Priority Mail International (230) Price Group 15

* * * * *

[Revise the heading for the First-Class Mail International section to read as follows (changing the price group to 5):]

First-Class Mail International (240) Price Group 5

* * * * *

Reunion

* * * * *

[Revise the heading for the Priority Mail International section to read as follows (changing the price group to 15):]

Priority Mail International (230) Price Group 15

* * * * *

[Revise the heading for the First-Class Mail International section to read as follows (changing the price group to 5):]

First-Class Mail International (240) Price Group 5

* * * * *

United Kingdom of Great Britain and Northern Ireland (Includes England, Scotland, Wales, Northern Ireland, Guernsey, Jersey, Alderney, Sark, and the Isle of Man)

* * * * *

Extra Services

* * * * *

[Add a new entry for USPS Delivered Duty Paid (DDP) within the Extra Services section between Restricted Delivery (350) and International Postal Money Order (371), to read as follows:]

USPS Delivered Duty Paid (DDP) (360)

Available only for dutiable items valued between 135-900 GBP sent via Priority Mail Express International or Priority Mail International.

Service is NOT available for items:

• Destined to Guernsey, Isle of Man, and Jersey.

• Not declared as Sales of Goods.

• Valued below 135 GBP, such threshold may be updated from time to time.

• Valued above 900 GBP, such threshold may be updated from time to time.

* * * * *

Colleen Hibbert-Kapler,
Attorney, Ethics and Legal Compliance.

[FR Doc. 2026-00164 Filed 1-7-26; 8:45 am]

BILLING CODE P